DEPARTMENT OF COMMERCE

National Oceanic and Atmospheric Administration

[I.D. 062405C]

Fisheries of the Caribbean, Gulf of Mexico, and South Atlantic; Snapper-Grouper Fishery Off the Southern Atlantic States and Coral and Coral Reefs Fishery in the South Atlantic; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from David R. Griffin on behalf of The North Carolina Aquariums. If granted, the EFP would authorize the applicant, with certain conditions, to collect up to 50 red porgy and up to 500 lb (227 kg) of live rock. Specimens would be collected from Federal waters off the coast of North Carolina during 2005 and 2006, and displayed at three North Carolina Aquarium facilities located on Roanoke Island, near Morehead City, and south of Wilmington, North Carolina.

DATES: Comments must be received no later than 5 p.m., eastern time, on July 14, 2005.

ADDRESSES: Comments on the application may be sent via fax to 727-824-5308 or mailed to: Julie Weeder, Southeast Regional Office, NMFS, 263 13th Avenue South, St. Petersburg, FL 33701. Comments may be submitted by e-mail. The mailbox address for providing e-mail comments is nc.aquarium@noaa.gov. Include in the subject line of the e-mail document the following text: Comment on North Carolina Aquariums EFP Application. The application and related documents are available for review upon written request to the address above or the e-mail address below.

FOR FURTHER INFORMATION CONTACT: Julie Weeder, 727-551-5753; fax 727-824-5308; e-mail julie.weeder@noaa.gov.

SUPPLEMENTARY INFORMATION: The EFP is requested under the authority of the Magnuson-Stevens Fishery Conservation and Management Act (16 U.S.C. 1801 et seq.), and regulations at 50 CFR 600.745(b) concerning exempted fishing.

According to the applicant, The North Carolina Aquariums are operated by the North Carolina Department of Environment and Natural Resources. Their mission is to inspire appreciation and conservation of North Carolina's aquatic environments through display of live animals found in the state.

The proposed collection for public display involves activities otherwise prohibited by regulations implementing the Fishery Management Plans (FMP) for the Snapper-Grouper Fisheries of the South Atlantic Region and the Coral, Coral Reefs, and Live/Hard Bottom Habitats of the South Atlantic Region.

The applicant requires authorization to harvest and possess up to 50 red porgy and up to 500 lb (227 kg) of live rock. Collections would occur in Federal waters off the coast of North Carolina during 2005 and 2006. Red porgy would be captured using hook-and-line, and SCUBA divers would collect live rock by hand at depths ranging from 40 ft (12 m) to 130 ft (40 m).

NMFS finds that this application warrants further consideration. Based on a preliminary review, NMFS intends to issue an EFP. Possible conditions the agency may impose on this permit, if it is indeed granted, include but are not limited to: Reduction in the number of fish and/or live rock to be collected; prohibition of harvest of live rock; restrictions on the size of fish to be collected; prohibition of the harvest of any fish with visible external tags; and specification of locations, dates, and/or seasons allowed for collection of red porgy and/or live rock. A final decision on issuance of the EFP will depend on a NMFS review of public comments received on the application, conclusions of environmental analyses conducted pursuant to the National Environmental Policy Act, and consultations with the affected states, the South Atlantic Fishery Management Council, and the U.S. Coast Guard. The applicant requests a 12-month effective period for the EFP.

Authority: 16 U.S.C. 1801 et seq.

Dated: June 24, 2005.
Alan D. Risenhoover
Acting Director, Office of Sustainable Fisheries, National Marine Fisheries Service.

[FR Doc. E5-3396 Filed 6-28-05; 8:45 am]

BILLING CODE 3510-22-S